DEPARTMENT OF THE INTERIOR

National Park Service

National Register of Historic Places; Notification of Pending Nominations and Related Actions

Nominations for the following properties being considered for listing or related actions in the National Register were received by the National Park Service before July 23, 2005. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington DC 20005; or by fax, 202-371-6447. Written or faxed comments should be submitted by August 25, 2005.

John W. Roberts,
Acting Chief, National Register/National Historic Landmarks Program.

COLORADO

Las Animas County

Nichols House, 212 E. 2nd St., Trinidad, 05000930

LOUISIANA

Avoyelles Parish

Central Bank and Trust Company, Mansura, 2057 L'Eglise St., Mansura, 05000933

Evangeline Parish Evangeline Bank and Trust Company, 342 W. Main St., Ville Platte, 05000934

MASSACHUSETTS

Hampshire County

Dorsey-Jones House, (Underground Railroad in Massachusetts MPS) 1919 Nonotuck St., Northampton, 05000931

South Worthington Historic District, Ireland St., Conwell Rd., Huntington Rd., Thrasher Hill Rd., Higgins Rd. S. Worthington Rd., Worthington, 05000935

Suffolk County

South Boston Boat Clubs Historic District, 1793-1849 William J. Day Blvd., Boston, 05000936

MISSOURI

Bollinger County

Mayfield, Will, College Arts and Science Building, 207 Mayfield Dr., Marble Hill, 05000929

NEW MEXICO

Bernalillo County

Willis, J.R., House and La Miradora Apartments, (Multi-unit Dwellings in Albuquerque, New Mexico MPS) 310 Rio Grande Blvd., SE, Albuquerque, 05000942

Mora County

Cassidy, James J., House, (Upland Valleys of Western Mora County MPS) Address Restricted, Cleveland, 05000943

NEW YORK

New York County

Townhouses at 352 and 353 Riverside Dr., 352 and 353 Riverside Dr., New York, 05000944

Queens County

Douglaston Historic District, Roughly bounded by Shore Rd., Marinette St., Douglas Rd. and Cherry St., Douglaston, 05000937

NORTH CAROLINA

Buncombe County

Biltmore Hospital, (Biltmore Village MRA) 14 All Souls Crescent, Asheville, 05000938

Broadway Market Building, 201 Broadway, Asheville, 05000939

Davidson County

Thomasville Downtown Historic District, Roughly bounded by Main St., Trade St., Guilford St. and Commerce St., Thomasville, 05000940

Gaston County

York—Chester Historic District, Bounded by W. Franklin Blvd., W. Second Ave., South St., W. Tenth Ave., W. Eighth Ave. and S. Clay St., Gastonia, 05000941

OREGON

Coos County

Hotel North Bend, 768 Virginia St., North Bend, 05000932

SOUTH DAKOTA

Brule County

Morrison, Edward, House, 624 Main St., Pukwana, 05000945

Lincoln County

Ulrickson Barn, SD 11 29350, Hudson, 05000946

Walworth County

Johnson Barn, Approx 4 mi. WNW of Glenham, Mobridge, 05000950

VERMONT

Bennington County

Bennington High School, 650 Main St., Bennington, 05000948

Chittenden County

Palmer, Charles R., House, 201 and 203 N. Willard St., Burlington, 05000947

Orleans County

Crystal Lake State Park, (Historic Park Landscapes in National and State Parks MPS) 96 Bellwater Ave., Barton, 05000949

WISCONSIN

Brown County

Nichols, John T., and Margaret, House, 128 Taft Ave., Allouez, 05000954

Clark County

Trogner, George W. and Sarah, House, 108 Grand Ave., Neillsville, 05000953

Iowa County

Dodge Mining Camp Cabin, 205 E. Fountain St., Dodgeville, 05000952

Milwaukee County

Adelman, Albert and Edith, House, 7111 N. Barnett Ln., Fox Point, 05000951

Polk County

Cushing Land Agency Building, 106 S. Washington St., St. Croix Falls, 05000955

[FR Doc. 05-15759 Filed 8-9-05; 8:45 am]

BILLING CODE 4312-51-P